DEPARTMENT OF ENERGY

Federal Energy Regulatory Commission

Notice of Intent To File Application for a New License

April 8, 2002.

Take notice that the following notice of intent has been filed with the Commission and is available for public inspection:

a. Type of filing: Notice of Intent to File an Application for New License.

b. Project No: 606.

c. Date filed: March 12, 2002.

d. Submitted By: Pacific Gas and Electric Company.

e. Name of Project: Kilarc-Cow Creek Project.

f. Location: Kilarc-Cow Creek Project is located in the state of California, Shasta County, on the Old Cow Creek and South Cow Creek, near the town of Chester, Greenville, and Quincy.

g. Filed Pursuant to: Section 15 of the Federal Power Act, 18 CFR 16.6.

h. Pursuant to section 16.19 of the Commission's regulations, the licensee is required to make available the information described in section 16.7 of the regulations. Such information is available from Pacific Gas and Electric, 245 Market Street, Room 1137, San Francisco, California 94105. Contact Mr. John Gourley at 415-972-5772.

i. FERC Contact: Kenneth Hogan, 202-208-0434, Kenneth.Hogan@Ferc.Gov.

j. Expiration Date of Current License: March 27, 2007.

k. Project Description: The project consist of two powerhouses with an installed capacity of 5000 kilowatts.

l. The licensee states its unequivocal intent to submit an application for a new license for Project No. 606 Pursuant to 18 CFR 16.9(b)(1) each application for a new license and any competing license applications must be filed with the Commission at least 24 months prior to the expiration of the existing license. All applications for license for this project must be filed by March 27, 2005.

A copy of the notice of intent is available for inspection and reproduction at the Commission's Public Reference Room, located at 888 First Street, NE., Room 2A, Washington, D.C. 20426, or by calling (202) 208-1371. This filing maky be viewed on the Commission's Web site at http://www.ferc.gov using the “RIMS” link, select “Docket #” and follow the instructions (call 202-208-2222 for assistance). A copy is also available for inspection and reproduction at the address in item h above.

Magalie R. Salas,
Secretary.

[FR Doc. 02-9037 Filed 4-12-02; 8:45 am]

BILLING CODE 6717-01-P